DEPARTMENT OF HOMELAND SECURITY

Federal Emergency Management Agency

Collection of Overpayments

AGENCY: Federal Emergency Management Agency, DHS.

ACTION: Notice.

SUMMARY: This document provides notice that the Federal Emergency Management Agency (FEMA) has terminated the current procedures for the recoupment of overpayments of disaster assistance made pursuant to Section 408 of the Stafford Act, in connection with Hurricanes Katrina and Rita. Recoupment notices previously sent to individual disaster applicants in connection with Hurricanes Katrina and Rita are hereby withdrawn. FEMA will institute new recoupment proceedings where warranted on an individual basis pursuant to the procedures established by regulation for the administrative collection of debts.

FOR FURTHER INFORMATION CONTACT: John Quintanilla, Federal Emergency Management Agency, Department of Homeland Security, Virginia National Processing Services Center, P.O. Box 2297, Winchester, VA 22604, telephone (540) 686-3603 (this is not a toll-free number). Individuals with speech or hearing impairments may access this number through TTY by calling the toll-free Federal Information Relay Service at 800-877-8339.

Notice: FEMA provided financial disaster assistance to individuals in connection with Hurricanes Katrina and Rita pursuant to Section 408 of the Stafford Act, 42 U.S.C. 5174. Some individual disaster applicants received assistance for which they were not eligible, or received amounts of assistance greater than that for which they were eligible. In many of those instances, FEMA instituted recoupment proceedings to recover those overpayments.

FEMA hereby provides notice that the recoupment of overpayments of such disaster assistance conducted pursuant to the former procedures governing recoupment, including those set forth at 44 CFR part 11, are permanently terminated. Pursuant to this determination, all recoupment notices previously sent to individual disaster applicants in connection with Hurricanes Katrina and Rita, as well as any subsequent correspondence regarding recoupment, are hereby withdrawn. This notice does not cancel valid debts of disaster applicants from Hurricanes Katrina and Rita; it terminates the former procedures under which FEMA recouped such debts.

FEMA will reexamine de novo the files of individual disaster applicants for evidence of overpayment. In instances where FEMA determines that recoupment is still warranted based on such review, FEMA will institute new recoupment proceedings pursuant to the procedures set forth at 6 CFR part 11 (adopting general procedures for administrative collection of debts set forth at 31 CFR parts 900-904), and will transmit new recoupment notices explaining the rights and obligations of persons who are determined to have received overpayments.

Individuals otherwise covered by this Notice who have previously entered into negotiated or voluntary payment plans with FEMA may continue to make payments under such plans, or may elect to stop making payments. In either event, consistent with its generally applicable policy, FEMA will reexamine de novo such individuals' files and, where appropriate, institute new recoupment proceedings as to any remaining debt balances pursuant to the procedures set forth at 6 CFR part 11.

Authority

Legal authority for recoupment is the Debt Collection Act of 1982 and the Debt Collection Improvement Act of 1996, 31 U.S.C. 3701 et seq.

Dated: August 29, 2008..
R. David Paulison,
Administrator, Federal Emergency Management Agency.

[FR Doc. E8-20587 Filed 9-4-08; 8:45 am]

BILLING CODE 9110-10-P